DEPARTMENT OF AGRICULTURE

Submission for OMB Review; Comment Request

November 23, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utilities Service

Title: 7 CFR 1777, Section 306C Water & Waste Disposal (WWD) Loans & Grants.

OMB Control Number: 0572-0109.

Summary of Collection: Rural Utilities Service is authorized to make loans and grants under Section 306C of the Consolidated Farm and Rural Development Act (7 U.S.C. 1926c). This program funds facilities and projects in low income rural communities whose residents face significant health risks. These communities do not have access to or are not served by adequate affordable water supply systems or waste disposal facilities. The loans and grants will be available to provide water and waste disposal facilities and services to these communities.

Need and Use of the Information: Eligible applicants submit an application package and other information to Rural Development field offices to develop or improve community water and waste disposal systems. In one percent of the cases an applicant will use the funds to enable individuals to connect to the applicant's system or improve residences to use the water or waste disposal system. In this situation, an applicant will make loans and grants to individuals and the applicant will submit an implementation plan, memorandum of agreement and use of funds report.

Description of Respondents: Not-for-profit institutions; Individuals or households.

Number of Respondents: 1.

Frequency of Responses: Reporting: Annually.

Total Burden Hours: 9.

Rural Utility Service

Title: High Energy Cost Grants and State Bulk Fuel Revolving Grant Programs.

OMB Control Number: 0572-0136.

Summary of Collection: The Rural Electrification Act of 1936 (RE Act) (7 U.S.C. 901 et seq.) was amended in November 2000 to create new grant and loan authority to assist rural communities with extremely high energy costs (Pub. L. 106-472). This amendment gives authorization to Rural Utilities Service (RUS) to provide competitive grants for energy generation, transmission, or distribution facilities serving communities in which the national average is at least 275% for residential expenditure for home energy. All applicants are required to submit a project proposal containing the elements in the prescribed format.

Need and Use of the Information: USDA will collect information from applicants to confirm that the eligibility requirements and the proposals are consistent with the purposes set forth in the statute. Various forms and progress reports are used to monitor compliance with grant agreements, track expenditures of Federal funds and measure the success of the program. Without collecting the listed information, USDA will not be assured that the projects and communities served meet the statutory requirements for eligibility or that the proposed projects will deliver the intended benefits.

Description of Respondents: Not-for-profit institutions; Business or other for-profit; and State, Local or Tribal Government

Number of Respondents: 112.

Frequency of Responses: Recordkeeping: Reporting: On occasion.

Total Burden Hours: 1,365.

Charlene Parker,
Departmental Information Collection Clearance Officer.

[FR Doc. 2010-30014 Filed 11-29-10; 8:45 am]

BILLING CODE 3410-15-P